DEPARTMENT OF HEALTH AND HUMAN SERVICES

Health Resources and Services Administration

Agency Information Collection Activities: Proposed Collection: Public Comment Request; Information Collection Request Title: Applications for and Monitoring of New, One-Time Funding Programs Administered by the Health Resources and Services Administration, OMB Control No. 0906-XXXX—New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB) concerning a proposed authorization to conduct the generic solution for solicitation for awards for HRSA-funded programs that provide one-time funding, including pilot programs. Prior to submitting the ICR to OMB, HRSA seeks comments from the public regarding the burden estimate, below, or any other aspect of the ICR.

DATES: Comments on this ICR should be received no later than May 21, 2024.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: Applications for and Monitoring of New, One-Time Funding Programs Administered by the Health Resources and Services Administration (HRSA)—OMB Control No. 0906-xxxx—New.

Abstract: HRSA is seeking approval for a generic umbrella clearance to collect applications for awards for HRSA-funded programs that provide one-time funding, including pilot programs. Should any of these pilot programs become permanent, HRSA will seek OMB clearance for these programs using a mechanism outside of this generic umbrella clearance. OMB guidance allows for the use of generic packages in cases where there may be a need for a data collection, but the agency “cannot determine the details of the specific individual collections until a later time.” ¹ HRSA will only use this collection for HRSA-funded programs that provide one-time funding, including pilot programs. HRSA would only request OMB approval for collections under this generic umbrella collection if the collection is low-burden, uncontroversial, and is a one-time application.

¹ Memorandum for the Heads of Executive Departments and Agencies and Independent Regulatory Agencies (July 2016), “Flexibilities under the Paperwork Reduction Act for Compliance with Information Collection Requirements.” Pages 4-5.

Furthermore, if Congress appropriates additional funding for such a program or HRSA uses the information from the applications for policy decisions not related to funding awards, HRSA will prepare a standard information collection request for that program, which will include the required 60- and 30-day Federal Register notices.

Need and Proposed Use of the Information: HRSA seeks to use an umbrella generic clearance for HRSA-funded programs that provide one-time funding, including pilot programs, so that funding can be awarded expeditiously. Expeditious awarding of funding is helpful not only for administrative ease, but also for cases where a pilot program or a program receiving one-time funding has a statutory deadline for completion. Approval of this proposed generic umbrella collection would enable HRSA to collect information from individual and site applicants and enable HRSA to make selection determinations for one-time awards in a timely manner.

Information collections under this umbrella generic collection would be applications for funding (solely providing applicants with an opportunity to demonstrate their capabilities in accordance with HRSA's statement of work or selection criteria and other related information) and forms required for monitoring funding recipients. Following the award, the awardee may also be required to provide progress reports or additional documents.

Likely Respondents: Each fast-track ICR under this generic umbrella ICR will specify the specific manner that respondents will be enlisted. Respondents will vary by the specific program and are determined by each program's eligibility, to include but are not limited to the following: health providers and other paraprofessionals, health facilities, accredited health professions schools or programs, State and local governments, and other eligible entities.

Respondents will be recruited by means of information listed on HRSA's website, or advertisements in public venues. The privacy of any potential or actual respondents will be preserved to the extent requested by participants and as permitted by law.

Once applicants are selected and awards are made, these awardees will be respondents for monitoring collections such as progress reports.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information.

HRSA intends to use this generic umbrella ICR for applications with a low burden and monitoring awardees. To estimate the burden for this collection, HRSA estimated how much time it would take for a respondent to complete a 2-page application with typical fields used in current collections that may fall under this generic umbrella ICR. HRSA then calculated the average burden estimate from these ICRs for the purpose of the estimate for this ICR. To estimate the burden for monitoring funding recipients, HRSA estimated how much time it would take for funding recipients to complete the average 2-page form used for program monitoring. The total burden hours over a 3-year period estimated for this ICR are summarized in the table below.

Total Estimated Burden Hours Over 3 Years
Instrument name | Estimated number of respondents | Average number of responses per respondent | Estimated total responses | Average burden per response (in hours) | Total burden hours
Program Applications | 5,000 | 1.5 | 7,500 | 1.75 | 13,125
Program Monitoring | 2,500 | 1.0 | 2,500 | 2.00 | 5,000
Total | 7,500 |  | 10,000 |  | 18,125

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2024-06141 Filed 3-21-24; 8:45 am]

BILLING CODE 4165-15-P